ENVIRONMENTAL PROTECTION AGENCY

[FRL-7616-8]

Investigator Initiated Grants: Request for Applications

AGENCY: Environmental Protection Agency.

ACTION: Notice of requests for applications.

SUMMARY: This notice provides information on the availability of fiscal year 2004 investigator initiated grants program announcements, in which the areas of research interest, eligibility and submission requirements, evaluation criteria, and implementation schedules are set forth. Grants will be competitively awarded following peer review.

DATES: Receipt dates vary depending on the specific research areas within the solicitations.

SUPPLEMENTARY INFORMATION: In its Requests for Applications (RFA) the U.S. Environmental Protection Agency invites research applications in the following areas of special interest to its mission: (1) Exploratory Research: Understanding Ecological Thresholds Through Retrospective Analysis, (2) Dose Response of EDCs at Low Levels of Exposure (3) PM Research Centers, (4) Pathways From Ecosystem Functioning to Aquatic Ecosystem Goods and Services, (5) Global Change and Air Quality:, (6) Genomic-based Indicators of Aquatic Ecosystem Quality, (7) Public Health Outcomes, (8) Computational Toxicology Research Centers, (9) Allergenicity of Genetically Modified Foods, (10) Valuation for Environmental Policy, (11) EaGLes (Riverine, Estuarine and Great Lakes Indicators Centers), (12) Computational Toxicology and Endocrine Disruptors: Use of Systems Biology in Hazard Identification and Risk Assessment, (13) EDC Exposure Issues, (14) Market Mechanisms and Incentives for Environmental Management, (15) Childhood Cancer.

Contacts: (1) Exploratory Research: Understanding Ecological Thresholds Through Retrospective Analysis—e-mail: goodman.iris@epa.gov, telephone: 202-564-8313, (2) Dose Response of EDCs at Low Levels of Exposure—e-mail: francis.elaine@epa.gov, telephone: 202-564-6789, (3) PM Research Centers—e-mail: katz.stacy@epa.gov, telephone: 202-564-8201 or e-mail: robarge.gail@epa.gov, telephone: 202-564-8301, (4) Pathways from Ecosystem Functioning to Aquatic Ecosystem Goods and Services—e-mail: smith.bernicel@epa.gov, telephone: 202-564-6934, (5) Global Change and Air Quality: Wildfires—e-mail: winner.darryl@epa.gov, telephone: 202-564-6929, (6) Genomic-based Indicators of Aquatic Ecosystem Quality—e-mail: perovich.gina@epa.gov, telephone: 202-564-62248, (7) Public Health Outcomes—e-mail: fields.nigel@epa.gov, telephone: 202-564-6936, (8) Computational Toxicology Research Centers—e-mail: francis.elaine@epa.gov, telephone: 202-564-6789, (9) Allergenicity of Genetically Modified Foods—e-mail: francis.elaine@epa.gov, telephone: 202-564-6789, (10) Valuation for Environmental Policy—e-mail: wheeler.william@epa.gov, telephone: 202-564-6842, (11) EaGLes (Riverine, Estuarine and Great Lakes Indicators Centers)—e-mail: goodman.iris@epa.gov, telephone: 202-564-8313, (12) Computational Toxicology and Endocrine Disruptors: Use of Systems Biology in Hazard Identification and Risk Assessment—e-mail: francis.elaine@epa.gov, telephone: 202-564-6789, (14) EDC Exposure Issues—e-mail: francis.elaine@epa.gov, telephone: 202-564-6789, (15) Market Mechanisms and Incentives for Environmental Management—e-mail: clark.matthew@epa.gov, telephone: 202-564-6824, (16) Childhood Cancer—e-mail: deener.kathleen@epa.gov, telephone: 202-564-8289.

FOR FURTHER INFORMATION CONTACT: The complete program announcement can be accessed on the Internet at http://www.epa.gov/ncer, under “announcements.” The required forms for applications with instructions are accessible on the Internet at http://es.epa.gov/ncer/rfa/forms/downlf.html. Forms may be printed from this site.

Dated: January 14, 2004.
Christopher S. Zarba,
Acting Director, National Center for Environmental Research.

[FR Doc. 04-2065 Filed 1-30-04; 8:45 am]

BILLING CODE 6560-50-P